DEPARTMENT OF TRANSPORTATION

Federal Aviation Administration

Sixteenth Meeting: EUROCAE WG-72: RTCA Special Committee 216: Aeronautical Systems Security (Joint Meeting)

AGENCY: Federal Aviation Administration (FAA), DOT.

ACTION: Notice of EUROCAE WG-72: RTCA Special Committee 216: Aeronautical Systems Security (Joint Meeting).

SUMMARY: The FAA is issuing this notice to advise the public of a meeting of EUROCAE WG-72: RTCA Special Committee 216: Aeronautical Systems Security (Joint Meeting).

DATES: The meeting will be held May 10-13, 2011 starting at 9 a.m. to 5 p.m.

ADDRESSES: The meeting will be held at Airbus, Technical University, Airbus Technology Center, Building 70, Nesspriel 5, 21129, Hamburg (Finkenwerder) Germany. Email jean-paul.moreaux@airbus.com and samira.bezza@eurocae.net of your intention to attend the meeting.

FOR FURTHER INFORMATION CONTACT: RTCA Secretariat, 1828 L Street, NW., Suite 805, Washington, DC 20036; telephone (202) 833-9339; fax (202) 833-9434; Web site http://www.rtca.org.

SUPPLEMENTARY INFORMATION: Pursuant to section 10(a)(2) of the Federal Advisory Committee Act (Pub. L. 92-463, 5 U.S.C., Appendix 2), notice is hereby given for a EUROCAE WG-72: RTCA Special Committee 216: Aeronautical Systems Security (Joint Meeting) meeting.

Agenda

• Day 1, 9 a.m.

• Welcome/Introductions/Administrative Remarks.

• Agenda Overview and Approval.

• Split Plenary.

• SC216—Approval of the Summary of the 15th meeting held January 18-21, 2011.

• Report on the PMC/ICC Action on TOR.

• RTCA Specific Publication Progress and Update.

• Subgroup and Action Item Reports.

• WG-72 Day 2 (9 a.m.-5 p.m.).

• Introduction/Review of the previous MoM/Report about publications/Approval of the meeting agenda/Election of new WG-72 secretary/Working Document Discussion/WG-72 specific concerns.

• Day 2 (9 a.m.-11 a.m.) Joint Plenary, Status of Discussions, Layout of Publications, Issues, Concerns, and Topics to be resolved, Priorities of work, Time Line, Mutual work items, i.e.; ED203, ED204, and Publication Schedule planning for working documents.

• Day 2 (11 a.m.-5 p.m.) Subgroup Meetings/Break-outs.

• Day 3 -Subgroup Meetings/Break-outs.

• Day 4—(9 a.m.-12 p.m.) Subgroup Meetings/Break-outs.

• Day 4—(1:15 p.m.-4 p.m.) Joint Plenary.

• Reports on Break-outs.

• Action Item Review and Coordination.

• Establish Dates, Location and Agenda for Next Meeting(s).

• Any Other Business.

• Adjourn.

Attendance is open to the interested public but limited to space availability. With the approval of the chairmen, members of the public may present oral statements at the meeting. Persons wishing to present statements or obtain information should contact the person listed in the FOR FURTHER INFORMATION CONTACT section. Members of the public may present a written statement to the committee at any time.

Issued in Washington, DC, on April 14, 2011.
Robert L. Bostiga,
RTCA Advisory Committee.

[FR Doc. 2011-9489 Filed 4-19-11; 8:45 am]

BILLING CODE 4910-13-P